DEPARTMENT OF JUSTICE

Antitrust Division

Notice Pursuant to the National Cooperative Research and Production Act of 1993—International Association of Plumbing and Mechanical Officials

Notice is hereby given that, on September 14, 2004, pursuant to Section 6(a) of the National Cooperative Research and Production Act of 1993, 15 U.S.C. 4301 et seq. (“the Act”), International Association of Plumbing and Mechanical Officials (“IAPMO”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: International Association of Plumbing and Mechanical Officials, Ontario, CA. The nature and scope of IAPMO's standards development activities are: The development of minimum standards and requirements to safeguard life or limb, health, property and public welfare by regulating and controlling the design, construction, installation, quality of materials, location, operation and maintenance or use of plumbing, heating, ventilating, cooling, refrigeration systems, incinerators, and other miscellaneous heat producing appliances. The activity also includes the development of performance standards for synthetic organic plumbing fixtures and standards for the composition, dimensions, and/or mechanical and physical properties of materials, fixtures, devices and equipment used or installed in plumbing or mechanical systems.

Dorothy B. Fountain,
Deputy Director of Operations, Antitrust Division.

[FR Doc. 04-26222 Filed 11-26-04; 8:45 am]

BILLING CODE 4410-11-M